DEPARTMENT OF AGRICULTURE

Food and Nutrition Service

Agency Information Collection Activities: Proposed Collection; Comment Request; FNS-46, Issuance Reconciliation Report

AGENCY: Food and Nutrition Service, USDA.

ACTION: Notice.

SUMMARY: In accordance with the Paperwork Reduction Act of 1995, this notice invites the general public and other public agencies to comment on proposed information collection contained in Form FNS-46, Issuance Reconciliation Report.

DATES: Written comments must be submitted on or before July 19, 2004.

ADDRESSES: Send comments and requests for copies of this information collection to: Lizbeth Silbermann, Chief, Electronic Benefit Transfer Branch, Benefit Redemption Division, Food and Nutrition Service, U.S. Department of Agriculture, 3101 Park Center Drive, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for Office of Management and Budget approval. All comments will also become a matter of public record.

FOR FURTHER INFORMATION CONTACT: Lizbeth Silbermann, Chief, Electronic Benefits Transfer Branch, (703) 305-2523.

SUPPLEMENTARY INFORMATION: Title: Form FNS-46, Issuance Reconciliation Report.

OMB Number: 0584-0080.

Form Number: FNS-46.

Expiration Date: 11/30/2004.

Type of Request: Revision of a currently approved collection.

Abstract: Section 7(d) of the Food Stamp Act of 1977 (the Act) (7 U.S.C. 2016 (d)) requires State agencies to report on their benefit issuance operations not less than monthly. Section 11(a) of the Act (7 U.S.C. 2020(a)) requires State agencies to assume responsibility for the issuance, control, and accountability of benefits. Regulations at 7 CFR 274.4(a) and 274.4(b)(2) require State agencies to account for all issuance through the reconciliations process and to submit a report on this process using Form FNS-46, Issuance Reconciliation Report. These reports must be submitted to the Food and Nutrition Service (FNS) monthly and must reach FNS no later that 90 days following the end of each report month. The FNS-46 report reflects the total issuance, returns, and unauthorized issuance amounts resulting in the net Federal obligation. The proposed revision to the information collection burden associated with FSP Form FNS-46, Issuance Reconciliation Report, reflects a reduction because of the requirement in section 7 (i) of the Act (7 U.S.C. 2016 (i)) for State agencies to change from coupon to EBT systems. States that implement EBT systems usually reduce their issuance reconciliation points to a single location. Therefore, the number of respondents and responses declines as the number of States with EBT systems increases.

Estimate of Burden: Currently, over 96 percent of FSP benefits are delivered via EBT; but by October 2004, we expect all States to have replaced their coupon systems with EBT systems. The total State agency respondent estimate is 1,152 for the Form FNS-46, Issuance Reconciliation Report, a reduction of 1,656 respondents from 2,808 respondents.

Affected Public: State and local government employees or contractors.

Estimated Number of Respondents: 96.

Estimated Number of Responses per Respondent: 12.

Estimated Time per Response: 8 hours.

Estimated Total Annual Burden: 9,216 hours annually.

Dated: May 11, 2004.
Roberto Salazar,
Administrator, Food and Nutrition Service.

[FR Doc. 04-11216 Filed 5-17-04; 8:45 am]

BILLING CODE 3410-30-P